DEPARTMENT OF ENERGY

Federal Energy Regulatory Commission

[Docket No. RP02-132-000]

Viking Gas Transmission Company; Notice of Informal Settlement Conference

May 20, 2002.

Take notice that an informal settlement conference will be convened in this proceeding commencing at 10:00 a.m. on Wednesday, May 29, 2002, and continuing at 10:00 a.m. on Thursday, May 30, 2002, at the offices of the Federal Energy Regulatory Commission, 888 First Street, NE., Washington, DC 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214.

For additional information, please contact Arnold H. Meltz at (202) 208-2161 or Carmen Gastilo at (202) 208-2182.

Magalie R. Salas,
Secretary.

[FR Doc. 02-13092 Filed 5-23-02; 8:45 am]

BILLING CODE 6717-01-P